DEPARTMENT OF COMMERCE

National Oceanic and Atmospheric Administration

[I.D. 053001C]

Marine Mammals; File No. 774- 1634-00

AGENCY: National Marine Fisheries Service (NMFS), National Oceanic and Atmospheric Administration (NOAA), Commerce.

ACTION: Receipt of application.

SUMMARY: Notice is hereby given that the Southwest Fisheries Science Center, NMFS, P.O. Box 271, La Jolla, CA 92038 (Principal Investigator: Dr. Karin A. Forney) has applied in due form for a permit to take, primarily, the eastern and southern ‘Whitebelly’ stocks of spinner dolphin (Stenella longirostris orientalis) and the northeastern offshore and coastal stocks of pantropical spotted dolphin (Stenella attenuata graffmani). Additional species that may be encircled and sampled include: short-beaked common dolphin (Delphinus delphis), long-beaked common dolphin (Delphinus capensis), spotted dolphin (Stenella attenuata), southern/western stock spinner dolphin (Stenella longirostris centroamericana), Central American stock striped dolphin (Stenella coeruleoalba), Fraser’s dolphin (Lagenodelphis hosei), Pacific white-sided dolphin (Lagenorhynchus obliquidens), bottlenose dolphin (Tursiops truncatus), rough-toothed dolphin (Steno bredanensis), Risso’s dolphin (Grampus griseus), pilot whale (Globicephala spp.), and melon-headed whale (Peponocephala electra), for purposes of scientific research.

DATES: Written or telefaxed comments must be received on or before July 6, 2001.

ADDRESSES: The application, accompanying Environmental Assessment, and other related documents are available for review by written request, by downloading from the internet, or by appointment in the following office(s):

Permits and Documentation Division, Office of Protected Resources, NMFS, 1315 East-West Highway, Room 13705, Silver Spring, MD 20910; phone (301) 713-2289; fax (301) 713-0376, or the Permits Division’s web page, (http://www.nmfs.noaa.gov/prot_res/overview/permits.html); and

Southwest Region, NMFS, 501 West Ocean Blvd., Suite 4200, Long Beach, CA 90802-4213; phone (562) 980-4001; fax (562) 980-4018, or the Center’s web page (http://swfsc.ucsd.edu).

FOR FURTHER INFORMATION CONTACT: Ruth Johnson or Tammy Adams, Ph.D., (301) 713-2289).

SUPPLEMENTARY INFORMATION: The subject permit is requested under the authority of the Marine Mammal Protection Act of 1972, as amended (MMPA; 16 U.S.C. 1361 et seq.), and the Regulations Governing the Taking and Importing of Marine Mammals (50 CFR part 216).

The applicant proposes to take the above mentioned species in a research project that covers the “experiment involving the repeated chasing and capturing of dolphins by means of intentional encirclement”, as mandated in the 1997 International Dolphin Conservation Program Act (IDCPA) (MMPA, Sec. 304 (a)(3)(C)) as one component of stress studies on dolphins involved in the eastern tropical Pacific tuna purse seine fishery. The objective of the experiment, as outlined in the law, is to “evaluate whether the intentional deployment on, or encirclement of, dolphins by purse-seine nets is having a significant adverse impact on any depleted dolphin stock.” The requested studies will include several complementary research projects that address different ways in which chase and capture stress may manifest itself in individual dolphins involved in tuna purse seine operations. The number of animals and research techniques that will be used for evaluating stress are outlined in the following table:

Broken down by combination of take types for each individual
| TOTAL | Not handled: Set Only | Not handled: Biopsy (Adult) | Restrained in water: Skin Swab (Calf) | Handled in raft and examined: (Adults only) | Handled in raft and examined: (Adults only) | Handled in raft and examined: (Adults only) | Handled in raft and examined: (Adults only) | Handled in raft and examined: (Adults only) | Handled in raft and examined: (Adults only)
Number of dolphins: | 24,000 | 21360 | 1800 | 300 | 20 | 5 | 15 | 50 | 445 | 5
Set-related takes |  |  |  |  |  |  |  |  |  |
Chase |  | X | x | x |  |  |  |  |  |
Helicopter overflight |  | x | x | x |  |  |  |  |  |
Encirclement |  | x | x | x |  |  |  |  |  |
Photographed |  | x | x | x | x | x | x | x | x | x
Biopsy |  |  | x |  |  |  |  |  |  |
Calf skin swab |  |  |  | x |  |  |  |  |  |
Handling-related takes |  |  |  |  |  |  |  |  |  |
Blood sample |  |  |  |  | x | x | x | x | x | x
Saddle Package - Radio tag |  |  |  |  | x |  |  |  |  |
Saddle Package - Satellite tag |  |  |  |  |  | x |  |  |  |
Saddle Package - Thermal tag |  |  |  |  |  |  | x |  |  |
Roto-Radio Tag |  |  |  |  |  |  |  |  | x |
Roto Tag |  |  |  |  |  |  |  | x |  |
Suction Cup Package - Thermal |  |  |  |  |  |  |  |  |  | x
Core temperature probe |  |  |  |  | x |  | x |  |  | x
Skin sample |  |  |  |  | x | x | x | x | x | x
Ultrasound |  |  |  |  | x | x | x | x | x | x
EKG |  |  |  |  | x | x | x | x | x | x
Accidental mortality | 40 inclusive of all species¹
¹This dolphin mortality will be part of the IATTC Director’s Reserve under the annual Dolphin Mortality Limits (DMLs) set for the fishery. It will replace any mortality that the chartered fishing vessel would have caused if it had been engaged in normal fishing operations.

Scientific research permits are generally categorically excluded from National Environmental Policy Act of 1969 (42 U.S.C. 4321 et seq.) (NEPA) requirements to prepare an EA or EIS; however, because of the impacts to the species involved and the intense public interest in this project, NMFS, in compliance with NEPA, has determined that an environmental assessment (EA) is warranted. The draft EA is a companion document to the scientific research permit application and is available for review simultaneously.

Written comments or requests for a public hearing on this application should be mailed to the Chief, Permits and Documentation Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

May 31, 2001.
Ann D. Terbush,
Chief, Permits and Documentation Division, Office of Protected Resources, National Marine Fisheries Service.

[FR Doc. 01-14282 Filed 6-5-01; 8:45 am]

BILLING CODE 3510-22-S